ENVIRONMENTAL PROTECTION AGENCY

40 CFR Part 82

[FRL-6982-1]

Protection of Stratospheric Ozone: Notice 15 for Significant New Alternatives Policy Program

AGENCY: Environmental Protection Agency.

ACTION: Notice of acceptability.

SUMMARY: This document expands the list of acceptable substitutes for ozone-depleting substances (ODS) under the U.S. Environmental Protection Agency's (EPA) Significant New Alternatives Policy (SNAP) program. The substitutes are for use in the refrigeration and air conditioning sector.

EFFECTIVE DATE: May 23, 2001.

ADDRESSES: Information relevant to this document is contained in Air Docket A-91-42, Room M-1500, Waterside Mall, U.S. Environmental Protection Agency, 401 M Street, SW., Washington, DC 20460, telephone: (202) 260-7548. You may inspect the docket between 8 a.m. and 5:30 p.m. weekdays. As provided in 40 CFR part 2, a reasonable fee may be charged for photocopying. Submissions to EPA for the use of the substitutes listed in this document may be found under category VI-D of EPA docket A-91-42. Other materials supporting the decisions herein may be found under category IX-B of EPA docket A-91-42.

FOR FURTHER INFORMATION CONTACT: Dave Godwin by telephone at (202) 564-3517, by fax at (202) 565-2155, by e-mail at Godwin.Dave@epa.gov, or by mail at U.S. Environmental Protection Agency, 1200 Pennsylvania Avenue, NW., Mail Code 6205J, Washington, DC 20460. Overnight or courier deliveries should be sent to 501 3rd Street, NW., Washington, DC 20001.

Further information can be found by calling the Stratospheric Protection Hotline at (800) 296-1996, Monday through Friday, between the hours of 10 a.m. and 4 p.m. (Eastern Standard Time). For more information on the Agency's process for administering the SNAP program or criteria for evaluation of substitutes, refer to the original SNAP rulemaking published in the Federal Register on March 18, 1994 (59 FR 13044). Notices and rulemakings under the SNAP program, as well as other EPA publications on protection of stratospheric ozone, are available from EPA's Ozone Depletion World Wide Web site at http://www.epa.gov/ozone/ including the SNAP portion at http://www.epa.gov/ozone/title6/snap/.

SUPPLEMENTARY INFORMATION:

I. Listing of Acceptable Substitutes

Refrigeration and Air Conditioning

II. Section 612 Program

A. Statutory Requirements

B. Regulatory History

Appendix A—Summary of Acceptable Decisions

I. Listing of Acceptable Substitutes

This section presents EPA's most recent acceptable listing decisions for substitutes in the refrigeration and air conditioning sector. For copies of the full list of SNAP decisions in all industrial sectors, contact the EPA Stratospheric Protection Hotline at (800) 296-1996.

The sections below discuss the substitute listing in detail. Appendix A contains a table summarizing today's listing decisions. The comments contained in the table provide additional information, but are not legally binding under section 612 of the Clean Air Act. In addition, these comments are not a comprehensive list of other legal obligations you may need to meet when using the substitute. Although you are not required to follow recommendations in the comments section of the table to use a substitute, EPA strongly encourages you to apply the comments when using these substitutes. In many instances, the comments simply refer to standard operating practices in existing industry and/or building-code standards. Thus, many of these comments, if adopted, would not require significant changes to existing operating practices.

Refrigeration and Air Conditioning

1. HFC-134a/HBr (92/8)

The chemical blend of 92% by weight HFC-134a (1,1,1,2-tetrafluoroethane) and 8% by weight HBr (hydrogen bromide) is acceptable for use as the primary heat transfer fluid in new secondary-loop equipment for not-in-kind replacements of systems using:

• CFC-12 and R-502 in retail food refrigeration; and

• CFC-12 and R-502 in cold storage warehouses

HFC-134a/HBr (92/8) is also acceptable as a substitute in new equipment for:

• CFC-11, CFC-12, CFC-114, CFC-115, and R-502 in industrial process refrigeration; and

• CFC-12 and R-502 in refrigerated transport

The submitter of this blend claims that the blend is protected under U.S. Patent Number 5,989,448. This submission may be found under EPA Air Docket A-91-42, item VI-D-275.

Environmental information: The ozone depletion potential (ODP) of HBr is estimated to be less than 0.02, while its atmospheric lifetime is estimated at 2 to 7 days (ICF Risk Screen, EPA Air Docket A-91-42, item IX-B-68).

Due to its short atmospheric lifetime, the global warming potential (GWP) of HBr is very low, while the GWP of HFC-134a is 1600 (100-year integrated time horizon referenced to carbon dioxide) [WMO, Scientific Assessment of Ozone Depletion: 1998]. The contribution of this blend to global warming will be minimized in each end-use through the implementation of the venting prohibition under section 608(c)(2) of the Clean Air Act (see 40 CFR part 82, subpart F). This section and EPA's implementing regulations prohibit venting or release of substitutes for class I and class II ozone depleting substances used in refrigeration and air-conditioning and require proper handling and disposal of these substances, such as recycling or recovery.

HFC-134a has been exempted from the list of volatile organic compounds (VOCs) under Clean Air Act regulations (40 CFR 51.000) for purposes of the State implementation plan (SIP) provisions of the Clean Air Act; HBr has not. Emissions of HBr should be controlled in accordance with VOC restrictions in approved SIPs.

Flammability information: Neither component of this blend is flammable.

Toxicity and exposure data: HBr has an OSHA-established eight-hour Permissible Exposure Limit (PEL) of only 3 ppm. The American Council of Governmental Industrial Hygienists (ACGIH) has recommended a Threshold Limit Value (TLV) of 3 ppm as well. EPA has previously listed HFC-134a, with a Workplace Environmental Exposure Level (WEELs) from the American Industrial Hygiene Association (AIHA) of 1000 ppm, as an acceptable substitute in a variety of applications. EPA expects users of this blend to follow all recommendations specified in the Material Safety Data Sheets (MSDSs) for HBr, HFC-134a and the blend. The Agency also expects that users will adhere to any acceptable exposure limits set by any voluntary consensus standards organization, including the TLVs from the ACGIH and WEELs from the AIHA as stated above.

Because of the health risks, EPA has at this time only evaluated this blend in limited applications. Within the retail food refrigeration and cold storage warehouse end uses, EPA is finding the use of HFC-134a/HBr (92/8) acceptable only for secondary-loop systems; accidental releases of the chemical in these applications are expected to generate negligible potential exposure to the public and workers. Within the refrigerated transport end use, direct exposure to high quantities of the refrigerant is not likely because of the small charge size and the typical placement of the unit away from direct human contact. Within the industrial process refrigeration end use, such as at chemical or other industrial plants, proper exposure controls and ventilation are generally available as well as established protocols for handling potentially hazardous materials, and therefore overall occupational risk is mitigated.

Additional precautions could include installation of warning signs, worker education and technician training. Such practices will further reduce the likelihood of exposure, and are therefore recommended for all approved end uses.

2. Through 13. PFC-330ST, PFC-550HC, PFC-660HC, PFC-1100HC, PFC-1100LT, PGC-100, PGC-150, PFC-331ST, PFC-551HC, PFC-661HC, PFC-1101HC and PGC-151

The chemical blends submitted to EPA with the unregistered trade names listed above are acceptable for use in new and retrofit equipment as substitutes for:

• CFC-13, CFC-113, CFC-114 and blends thereof in very low temperature refrigeration.

IGC Polycold Systems Inc., the submitter of the above-listed blends, claims that the compositions of these blends, tailored for use in its equipment, are confidential business information. A redacted version of this submission may be found under EPA Air Docket A-91-42, item VI-D-267.

Environmental information: Each of these blends contain one or more hydrochlorofluorocarbon (HCFC) component(s), and thus the blends do not have a zero ozone depletion potential (ODP).

The global warming potentials (GWPs) of some of the blend components are very high; however, the GWPs of the blends as formulated are less than the GWPs of the refrigerants they are replacing and less than most other alternatives approved for use within the very low temperature refrigeration end use. EPA strongly encourages the continued search for lower-GWP alternatives for use in this end use and prompt identification and repair of any leaks that may occur. The contribution of these blends to global warming will be minimized through the implementation of the venting prohibition under section 608(c)(2) of the Clean Air Act (see 40 CFR part 82, subpart F). This section and EPA's implementing regulations prohibit venting or release of substitutes for class I and class II ozone depleting substances used in refrigeration and air-conditioning and require proper handling and disposal of these substances, such as recycling or recovery.

Some components of these blends have not been exempted from listing as VOCs under Clean Air Act regulations for purposes of the SIP program. Emissions should be controlled in accordance with requirements in approved SIPs.

Flammability information: The submitter states that tests conducted by Hauser Engineering Services determined that all of the blends, except PGC-100, PGC-150 and PGC-151, are flammable in accordance with ASTM E-681-85. However, a flammability analysis and risk assessment provided by the submitter found little to no associated risk, due in part to the small charge size used and the low probability of a leak occurring in the semi-hermetically-sealed equipment. To further reduce flammability risks, EPA recommends that adequate personnel training and room ventilation be provided.

Toxicity and exposure data: All components in these blends have eight-hour time-weighted average occupational exposure limits, such as Threshold Limit Values (TLVs) from the American Council of Governmental Industrial Hygienists (ACGIH) and Workplace Environmental Exposure Levels (WEELs) from the American Industrial Hygiene Association (AIHA), on the order of 1,000 ppm, with one exception. Although one component does have a WEEL significantly less than 1,000 ppm, the EPA risk screen and occupational exposure scenarios indicate that likely exposure to this chemical or any of the other components of these blends will remain below the recommended limits within the proposed end use, including manufacture and disposal scenarios. Further, the company's Material Safety Data Sheets (MSDSs) for all 12 blends recommend an acceptable exposure limit (AEL) of 30 ppm. These exposure limits for the blends are lower than the WEELs for the components; therefore, EPA believes that the company's recommended AELs are protective of human health. EPA expects users to follow all recommendations specified in the MSDSs for the blends and other safety precautions common in the refrigeration and air conditioning industry.

14. SP34E

On December 18, 2000, EPA listed SP34E as acceptable for use as a substitute for CFC-12 for retrofit and new motor vehicle air conditioning (65 FR 78979). Based on a final rule promulgated by EPA on October 16, 1996 (61 FR 54029), all substitutes listed as acceptable for use in motor vehicle air conditioning must be used with unique fittings for service ports and refrigerant containers. In the original SP34E listing, low-side and high-side service port fittings, as well as fittings for large refrigerant containers (>20 pounds) were identified, but fittings for small cans were not. Since then, the following fittings have been developed for small cans, and use of these fittings is required to use SP34E in motor vehicle air conditioning systems:

Fitting type | Diameter (inches) | Thread pitch (threads/inch) | Thread direction
Small cans | 0.3125 (5/16) | 24 | Left.

II. Section 612 Program

A. Statutory Requirements

Section 612 of the Clean Air Act authorizes EPA to develop a program for evaluating alternatives to ozone-depleting substances. EPA refers to this program as the Significant New Alternatives Policy (SNAP) program. The major provisions of section 612 are:

• Rulemaking—Section 612(c) requires EPA to promulgate rules making it unlawful to replace any class I (chlorofluorocarbon, halon, carbon tetrachloride, methyl chloroform, methyl bromide, and hydrobromofluorocarbon) or class II (hydrochlorofluorocarbon) substance with any substitute that the Administrator determines may present adverse effects to human health or the environment where the Administrator has identified an alternative that (1) reduces the overall risk to human health and the environment, and (2) is currently or potentially available.

• Listing of Unacceptable/Acceptable Substitutes—Section 612(c) also requires EPA to publish a list of the substitutes unacceptable for specific uses. EPA must publish a corresponding list of acceptable alternatives for specific uses.

• Petition Process—Section 612(d) grants the right to any person to petition EPA to add a substance to or delete a substance from the lists published in accordance with section 612(c). The Agency has 90 days to grant or deny a petition. Where the Agency grants the petition, it must publish the revised lists within an additional six months.

• 90-day Notification—Section 612(e) directs EPA to require any person who produces a chemical substitute for a class I substance to notify the Agency not less than 90 days before new or existing chemicals are introduced into interstate commerce for significant new uses as substitutes for a class I substance. The producer must also provide the Agency with the producer's unpublished health and safety studies on such substitutes.

• Outreach—Section 612(b)(1) states that the Administrator shall seek to maximize the use of federal research facilities and resources to assist users of class I and II substances in identifying and developing alternatives to the use of such substances in key commercial applications.

• Clearinghouse—Section 612(b)(4) requires the Agency to set up a public clearinghouse of alternative chemicals, product substitutes, and alternative manufacturing processes that are available for products and manufacturing processes which use class I and II substances.

B. Regulatory History

On March 18, 1994, EPA published the final rulemaking (59 FR 13044) which described the process for administering the SNAP program. In the same document, EPA issued its first acceptability lists for substitutes in the major industrial use sectors. These sectors include:

• Refrigeration and air conditioning;

• Foam blowing;

• Solvents cleaning;

• Fire suppression and explosion protection;

• Sterilants;

• Aerosols;

• Adhesives, coatings and inks; and

• Tobacco expansion.

These sectors compose the principal industrial sectors that historically consumed the largest volumes of ozone-depleting compounds.

As described in this original rule for the SNAP program, EPA does not believe that rulemaking procedures are required to list alternatives as acceptable with no limitations. Such listings do not impose any sanction, nor do they remove any prior license to use a substance. Therefore, by this action EPA is adding substances to the list of acceptable alternatives without first requesting comment on new listings.

EPA does, however, believe that notice-and-comment rulemaking is required to place any substance on the list of prohibited substitutes, to list a substance as acceptable only under certain conditions, to list substances as acceptable only for certain uses, or to remove a substance from the lists of prohibited or acceptable substitutes. Updates to these lists are published as separate notices of rulemaking in the Federal Register.

The Agency defines a “substitute” as any chemical, product substitute, or alternative manufacturing process, whether existing or new, intended for use as a replacement for a class I or class II substance. Anyone who produces a substitute must provide the Agency with health and safety studies on the substitute at least 90 days before introducing it into interstate commerce for significant new use as an alternative. This requirement applies to substitute manufacturers, but may include importers, formulators, or end-users, when they are responsible for introducing a substitute into commerce.

You can find a complete chronology of SNAP decisions and the appropriate Federal Register citations from the SNAP section of EPA's Ozone Depletion World Wide Web site at www.epa.gov/ozone/title6/snap/chron.html. This information is also available from the Air Docket (see ADDRESSES section above for contact information).

List of Subjects in 40 CFR Part 82

Environmental protection, Administrative practice and procedure, Air pollution control, Reporting and recordkeeping requirements.

Dated: May 7, 2001.
Avis C. Robinson,
Acting Director, Office of Atmospheric Programs, Office of Air and Radiation.

Appendix A.—Summary of Acceptable Decisions

Refrigeration and Air Conditioning
End-Use | Substitute | Recommendation | Comments
Retail food refrigeration, for use as the primary heat transfer fluid in new secondary-loop equipment for not-in-kind replacements of systems | HFC-134a/HBr (92/8) as a substitute for CFC-12 and R-502 | Acceptable | Users are expected to adhere to the 3 ppm Permissible Exposure Limit and Threshold Limit Value set by OSHA and ACGIH, respectively. Users are expected to follow all recommendations specified in Material Safety Data Sheets for HBr, HFC-134a and the blend. Additional warning signs, worker education and technician training is recommended to minimize exposures.
Cold storage warehouses, for use as the primary heat transfer fluid in new secondary-loop equipment for not-in-kind replacements of systems | HFC-134a/HBr (92/8) as a substitute for CFC-12 and R-502 | Acceptable | Users are expected to adhere to the 3 ppm Permissible Exposure Limit and Threshold Limit Value set by OSHA and ACGIH, respectively. Users are expected to follow all recommendations specified in Material Safety Data Sheets for HBr, HFC-134a and the blend. Additional warning signs, worker education and technician training is recommended to minimize exposures.
Industrial process refrigeration (new) | HFC-134a/HBr (92/8) as a substitute for CFC-11, CFC-12, CFC-114, CFC-115 and R-502 | Acceptable | Users are expected to adhere to the 3 ppm Permissible Exposure Limit and Threshold Limit Value set by OSHA and ACGIH, respectively. Users are expected to follow all recommendations specified in Material Safety Data Sheets for HBr, HFC-134a and the blend. Additional warning signs, worker education and technician training is recommended to minimize exposures.
Refrigerated transport (new) | HFC-134a/HBr (92/8) as a substitute for CFC-12 and R-502 | Acceptable | Users are expected to adhere to the 3 ppm Permissible Exposure Limit and Threshold Limit Value set by OSHA and ACGIH, respectively. Users are expected to follow all recommendations specified in Material Safety Data Sheets for HBr, HFC-134a and the blend. Additional warning signs, worker education and technician training is recommended to minimize exposures.
Very low temperature refrigeration (retrofit and new) | PFC-330ST, PFC-550HC, PFC-660HC, PFC-1100HC, PFC-1100LT, PGC-100, PGC-150, PFC-331ST, PFC-551HC, PFC-661HC, PFC-1101HC and PGC-151 as substitutes for CFC-13, CFC-113, CFC-114 and blends thereof | Acceptable

[FR Doc. 01-12893 Filed 5-22-01; 8:45 am]

BILLING CODE 6560-50-P